DEPARTMENT OF TRANSPORTATION

Federal Transit Administration

Environmental Impact Statement; North Corridor Transit Project, Seattle (WA) Metropolitan Area (King and Snohomish Counties)

AGENCY: Federal Transit Administration, DOT.

ACTION: Notice of Intent to Prepare an Environmental Impact Statement (EIS).

SUMMARY: In accordance with the National Environmental Policy Act (NEPA), the Federal Transit Administration and the Central Puget Sound Regional Transit Authority (Sound Transit) intend to prepare an Environmental Impact Statement (EIS) for Sound Transit's proposed extension of the Central Link Light Rail system from Seattle in King County to the city of Lynnwood in Snohomish County, Washington. The EIS will also be prepared in accordance with Washington's State Environmental Policy Act (SEPA). This Notice of Intent initiates scoping for the EIS, invites interested parties to participate in the EIS process, provides information about the purpose and need for the proposed transit project, includes the general set of alternatives being considered for evaluation in the EIS, and identifies potential environmental effects to be considered. With this notice, Sound Transit and FTA invite public comments on the scope of the EIS, and announce the public scoping meetings that will be conducted. Alternatives being considered for evaluation in the EIS include a No-Build alternative and various build alternatives to develop light rail in the North Corridor. The light rail alternatives are based on the most promising alternatives identified through an Alternatives Analysis study completed by the project. Early scoping for the alternatives analysis phase was previously announced in the Federal Register on September 27, 2010. Results of the alternatives analysis are described below.

DATES: Written comments on the scope of alternatives and impacts to be considered in the EIS must be received no later than October 31, 2011, and must be sent to Sound Transit as indicated below.

Information about the proposed project, the Alternatives Analysis findings, and the EIS process will be available at three public scoping meetings and one tribal and agency scoping meeting. Sound Transit and FTA will accept comments at those meetings, which will be held on the following dates and locations:

Public Meetings

October 11, 2011: 6 p.m. to 8 p.m., Shoreline Conference Center, 18560 1st Avenue NE., Shoreline, WA 98155.

October 13, 2011: 6 p.m. to 8 p.m., Embassy Suites, 20610 44th Ave. W, Lynnwood, WA 98036.

October 18, 2011: 6 p.m. to 8 p.m., Ingraham High School, 1819 N. 135th St., Seattle, WA 98133.

Agency and Tribal Meeting

October 11, 2011: 2 p.m. to 4 p.m., Shoreline Conference Center, 18560 1st Avenue NE., Shoreline, WA 98155.

Invitations to the interagency scoping meeting have been sent to appropriate Federal, tribal, state, and local governmental units.

All public meeting locations are accessible to persons with disabilities who may also request materials be prepared and supplied in alternate formats by calling Roger Iwata, (206) 689-4904 at least 48 hours in advance of the meeting for Sound Transit to make necessary arrangement. Persons who are deaf or hard of hearing may call (888) 713-6030 TTY.

Scoping information as well as other general information and a project library are available on Sound Transit's Web site at: http://www.soundtransit.org/NCTP.

The scoping period extends to October 31, 2011, or 30 days from the date of this notice, whichever is later. Written scoping comments are requested by October 31, 2011 at the address below, or they can be submitted at the public meetings.

ADDRESSES: Lauren Swift, North Corridor Transit Project, Sound Transit, 401 S. Jackson Street, Seattle, WA 98104-2826, or by e-mail to northcorridorscoping@soundtransit.org.

FOR FURTHER INFORMATION CONTACT: John Witmer, Community Planner, Jackson Federal Building, 915 Second Avenue, Suite 3142, Seattle, WA 98174; Phone: (206) 220-7964; e-mail: John.Witmer@dot.gov.

SUPPLEMENTARY INFORMATION: Background: On September 27, 2010, FTA and Sound Transit issued an early scoping notice in the Federal Register for the North Corridor Transit Project Alternatives Analysis. Sound Transit has now completed the Alternatives Analysis, which provides the basis for identifying the most promising alternatives to be evaluated. FTA and Sound Transit are now informing the public of their intent to initiate the NEPA review, based on the findings of the Alternatives Analysis.

Description of the North Corridor

The proposed project would begin at Northgate Transit Center in north Seattle and end at the Lynnwood Transit Center. The corridor generally follows Interstate 5 (I-5), the major north-south route through Washington State and serves a large commuter market traveling between Snohomish and King Counties and the City of Seattle. It is within a geographically constrained area between Puget Sound to the west and Lake Washington to the east, which limits transportation options. This dense urban area comprises one of the region's most productive markets for transit.

The Regional Transit System and the North Corridor

Sound Move, Sound Transit's first phase of regional transit investments for urbanized Pierce, King and Snohomish counties, was approved and funded by voters in 1996. The Sound Move program included light rail, commuter rail and regional express bus infrastructure and service, including the Central Link light rail system between the University of Washington, downtown Seattle, Tukwila and SeaTac. In 2009, Sound Transit began light rail operations between downtown Seattle and SeaTac. Link light rail north from downtown Seattle to the University of Washington is now under construction and is scheduled to open in 2016. The North Link extension from the University of Washington to Northgate is planned to begin operation in 2021. Voters in 2008 authorized funding for the extension of the regional light rail system in the North Corridor from Northgate to Lynnwood as part of the Sound Transit 2 (ST2) Plan. In addition, the ST2 Plan includes an East Link light rail line from downtown Seattle to Bellevue and Redmond to the east, and a South Link extension from SeaTac to Redondo/Star Lake in southern King County.

Alternatives Analysis and Results

The North Corridor Transit Project Alternatives Analysis (AA) Report and SEPA Addendum(available at http://www.soundtransit.org/NCTP) responds to Federal regulations for transit projects seeking New Starts funding (Title 49 United States Code [U.S.C.] 5309.) The AA report also serves as an addendum under the Washington State Environmental Policy Act (SEPA) to Sound Transit's Supplemental EIS on the Regional Transit Long-Range Plan (June 2005).

The North Corridor AA considered a Transportation Systems Management (TSM) Alternative, Bus Rapid Transit (BRT) alternatives, and an array of light rail alternatives. The BRT and light rail routes included I-5, SR 99, and portions of 15th Avenue NE, with a variety of station locations and alignments. All alternatives ran from the Northgate light rail station currently being developed through the North Link project at the existing Northgate Transit Center, to the Lynnwood Transit Center.

Sound Transit evaluated these alternatives considering their ability to meet the project's purpose and need statement (stated below), and weighing factors such as ridership and transportation performance, land use, community equity, environmental effects, cost, cost effectiveness and constructability.

Sound Transit conducted the AA in coordination with the jurisdictions and agencies with interests in the corridor, including the cities of Seattle, Shoreline, Mountlake Terrace, Edmonds and Lynnwood; King and Snohomish counties; Metro Transit, Community Transit and the Washington State Department of Transportation.

The AA concluded by identifying the most promising alternatives for further analysis. It identified light rail as the only mode that fully satisfies the North Corridor Transit Project's Purpose and Need related to transportation effectiveness and the corridor's mobility, access, and capacity needs. Bus rapid transit alternatives do not meet project purpose and need elements calling for improved capacity, reliability, ridership, or travel times. Transportation Systems Management (TSM) alternatives also do not meet project purpose and need for the same reasons.

The AA found that light rail must operate in an exclusive right of way with full separation from other traffic in order to provide the capacity, reliability and travel time savings needed to address the growing demand for high capacity transit in the corridor and meet the Purpose and Need of the project.

The AA also found that light rail located along or within the I-5 corridor offers the best overall performance across the broad set of evaluation criteria, including ridership and transportation performance, consistency with regional land use plans, and cost-effectiveness. Other light rail alignments were also evaluated, including an SR 99 elevated alternative. While that alternative has the potential to meet the project's purpose and need, it does not perform as well as the I-5 alternative in most respects and would have substantially higher capital costs, property acquisitions and community impacts during construction. At-grade or mixed-profile light rail along SR 99 would not effectively address the project's purpose and need due to inadequate capacity, low reliability and low travel time benefits, and would be less effective in supporting regional land use objectives than other alternatives.

Elevated and at-grade light rail alignment alternatives along 15th Avenue NE were evaluated in the AA process but not recommended for further consideration because they caused more environmental impacts, particularly to property and neighborhoods, and had lower transportation benefits than other alternatives.

The Alternatives Analysis findings are available on the North Corridor Web site at http://www.soundtransit.org/NCTP . Summary information about the AA process and its conclusions is also provided in the Environmental Scoping Information Report available at the same Web site.

The Project's Preliminary Statement of Purpose and Need

The purpose of the North Corridor Transit Project is to improve regional mass transit service from Seattle north into Snohomish County by:

1. Providing reliable, rapid, and efficient two-way, peak and off-peak transit service of sufficient capacity to meet the existing and projected demand between the communities and activity centers located in the North Corridor and the other urban centers in the Central Puget Sound area;

2. Providing a mobility alternative to travel on congested roadways, and improving connections to the regional multimodal transportation system;

3. Supporting North Corridor communities' and the region's adopted land use, transportation and economic development vision, which promotes the well-being of people and communities, ensures economic vitality and preserves a healthy environment; and

4. Supporting the long-range vision, goals, and objectives for transit service established by Sound Transit's Long-Range Plan for high quality regional transit service connecting major activity centers in King, Pierce and Snohomish counties, including a connection between Seattle and Everett.

The project is needed to:

• Meet the rapidly growing needs of the corridor and the region's future residents and workers by increasing mobility, access, and transportation capacity to and from regional growth and activity centers in the North Corridor and the rest of the region, as called for in the region's adopted plans, including the Puget Sound Regional Council's VISION 2040 and Transportation 2040, as well as related county and city comprehensive plans.

• Address the problems of increasing and unreliable travel times for transit users in the North Corridor, who are now dependent on the corridor's highly congested roadway and HOV systems.

• Address overcrowding facing current and future North Corridor transit riders due to insufficient capacity of the current transit system.

• Provide an alternative to automobile trips on I-5 and SR 99, the two primary highways serving the corridor, which are unreliable and over capacity throughout significant portions of the day.

• Implement the long-range vision for HCT service established by Sound Transit's Regional Transit Long-Range Plan, with a regional transit investment that supports economic vitality, preserves the environment, preserves communities, and allows for the future extension of HCT north to Everett.

• Ensure long-term regional mobility, multimodal connectivity, and convenience for North Corridor citizens and communities, including travel-disadvantaged residents and low income and minority populations.

• Provide the transit infrastructure needed to support the development of Northgate and Lynnwood as designated regional growth centers providing housing, employment, public services, and multimodal transportation connections.

• Help support the environmental and sustainability goals of the state and region, including state regulations setting goals for reducing annual per capita vehicle miles traveled by 2050, in accordance with RCW 47.01.440, and the reduction of greenhouse gas emissions Chapter 70.235 RCW (Limiting Green House Gas Emissions)

Potential EIS Alternatives

The results of the AA have led Sound Transit and FTA to consider for inclusion in the EIS the following range of alternatives, on which Sound Transit and FTA request public and agency comments.

No-Build Alternative

NEPA requires consideration of a No-Build Alternative. It reflects the existing transportation system plus any committed transportation improvements. It does not include a major investment in the North Corridor.

Light Rail Alternatives

The North Corridor light rail alternatives would operate light rail trains between Northgate and Lynnwood in two directions, 20 hours per day. Trains up to four cars long would run every 4 minutes during the peak periods and every 10 minutes off-peak. All of the alternatives would provide for a fully exclusive guideway, with no part of the alignment shared with other vehicles. All of the light rail alternatives would require Sound Transit to purchase new light rail vehicles, and would involve other transit system and network modifications. As part of the larger ST2 program to expand the regional light rail system, the North Corridor Transit Project would also rely upon expanded regional light rail operations and maintenance facilities, in conjunction with ST2 plans for extensions of light rail to the east and south. The expansion of Sound Transit's regional light rail operations and maintenance facilities is independent of the North Corridor Transit Project and has a separate environmental review process.

Potential I-5 Light Rail Alternatives

Potential I-5 light rail alternatives would be located generally along I-5 with new stations proposed at NE., 145th Street, NE., 185th Street, Mountlake Terrace Transit Center (I-5 at SW., 236th Street), and the Lynnwood Transit Center. Park-and-ride structures with up to 500 new stalls each would be located at the North 145th Street, North 185th Street, and Lynnwood Transit Center stations.

The AA produced a conceptual I-5 alignment that Sound Transit is using to identify other potential I-5 alignment alternatives to be considered further in the EIS. The general I-5 alignment from the AA includes at-grade and elevated light rail sections along the east side of I-5 from Northgate to Mountlake Terrace, in the median north of Mountlake Terrace before crossing to the west of I-5 to reach the Lynnwood Transit Center. This general alignment builds on existing park-and-ride and transit center investments and local service connections, avoids repeated crossings of I-5, and avoids major reconstruction of I-5 roadways.

Variations could include alignments at different locations relative to the east or west sides of I-5 or the I-5 median, different locations for crossing I-5, or different combinations of elevated or at-grade profiles or station locations and layouts.

Potential SR 99 Light Rail Alternatives

A SR 99 light rail elevated alternative would be based on the AA conceptual alignment, which begins on an elevated structure at the Northgate Link Station, continuing north and then turning west over I-5, and then along Northgate Way and North 110th Street to the median of SR 99. It would transition from the median to the west side of SR 99 at about North 120th Street, then operate on elevated structure on the west side of SR 99 to SR 104 where it turns east to reach a Mountlake Terrace Station at 236th Street SW., and I-5. This general alignment avoids multiple crossings and reconstruction of SR 99, and directly serves the Shoreline Park-and-Ride. From the Mountlake Terrace station it would continue north to Lynnwood similar to the I-5 light rail alternatives. The five light rail stations assumed in the AA were located at SR 99 near North 130th Street, North 160th Street, and the Shoreline Park-and-Ride, with Mountlake Terrace and Lynnwood Transit Center stations the same as those assumed for I-5 light rail. At the Shoreline Park-and-Ride, a 1,100 stall parking structure would be developed at the Shoreline Park-and-Ride, adding 500 new spaces, and relocating 200 spaces from the Aurora Village Transit Center. The Aurora Village Transit Center would also be relocated to the Shoreline Park-and-Ride to create a consolidated multimodal transit hub.

If SR 99 corridor light rail alternatives are advanced to the EIS for further study, variations could include alignments at different locations relative to the east or west sides of SR 99 or the SR 99 median, or alternate station locations and layouts.

Scope of Environmental Analysis

The EIS process explores potentially significant effects of implementing the proposed action (and alternatives to the proposed action) on the physical, human, and natural environment. Areas of investigation include, but are not limited to, transportation, land use, development potential, land acquisition and displacements, park and recreation resources, historic and cultural resources, environmental justice, visual and aesthetic qualities, air quality, noise and vibration, energy use, safety and security, and ecosystems, including threatened and endangered species. These effects will be evaluated for both the construction period and the long-term period of operation. Indirect, secondary and cumulative impacts will also be evaluated. Through the EIS process, measures to avoid, minimize, or mitigate significant adverse impacts will be identified.

FTA's regulations implementing NEPA (further described below), as well as provisions enacted through the Safe, Accountable, Flexible, Efficient Transportation Equity Act: A Legacy for Users (SAFETEA-LU), call for public involvement in the EIS process. Section 6002 of SAFETEA-LU requires that this agency: (1) Extend an invitation to other Federal and non-Federal agencies and Indian tribes that may have an interest in the proposed project to become “cooperating” or “participating agencies,” (2) provide an opportunity for involvement by agencies and the public in helping to define the purpose and need for a proposed project, as well as the range of alternatives for consideration in the impact statement, and (3) establish a plan for coordinating public and agency participation in and comment on the environmental review process.

This notice of intent constitutes an invitation to other Federal and non-Federal agencies and Indian tribes that may have an interest in the proposed project to become a participating agency in the environmental review process. It is also an invitation for public and agency involvement. A draft Coordination Plan for public and agency involvement is available for review at the project Web site. It identifies the project's coordination approach and structure, details the major milestones for agency and public involvement, and includes an initial list of interested agencies and organizations. FTA will comply with all Federal environmental laws, regulations, and executive orders applicable to the proposed project during the environmental review process to the maximum extent practicable. These requirements include, but are not limited to, the regulations of the Council on Environmental Quality implementing NEPA, and FTA's own NEPA regulations (40 CFR parts 1500-1508, and 23 CFR part 771); the air quality conformity regulations of the U.S. Environmental Protection Agency (EPA) (40 CFR part 93); the Section 404(b)(1) guidelines of EPA (40 CFR part 230); the regulations implementing Section 106 of the National Historic Preservation Act (36 CFR part 800); the regulations implementing section 7 of the Endangered Species Act (50 CFR part 402); Section 4(f) of the Dept. of Transportation Act (23 CFR part 774); and Executive Orders 12898 on environmental justice, 11988 on floodplain management, and 11990 on wetlands.

Scoping

FTA and Sound Transit invite comments from interested individuals, organizations, tribes and agencies. Comments are welcome regarding the preliminary statement of purpose and need; the alternatives to be evaluated in the EIS; and any significant environmental issues related to the alternatives. Suggested reasonable alternatives that meet the project purpose and need will be seriously considered.

To assist the public during scoping, Sound Transit has prepared an Environmental Scoping Information Report describing the project, its planning history, the potential alternatives and station locations, the potential impact areas to be evaluated, summary of results from the Alternative Analysis (AA), and the preliminary EIS schedule. You may request a copy of it from Roger Iwata, Sound Transit, 401 S. Jackson Street, Seattle, WA 98104-2826, Telephone: (206) 689-4904, or e-mail: roger.iwata@soundtransit.org. It is also available at http://www.soundtransit.org/NCTP.

Following the close of the comment period, Sound Transit will publish a summary report documenting the public and agency comments it has received. In late 2011 or early 2012, the Sound Transit Board is expected to consider a motion confirming the purpose and need for the project, the scope of environmental review, and the alternatives to be considered in the draft EIS, possibly including identification of a locally-preferred alternative.

Paperwork Reduction

The Paperwork Reduction Act seeks, in part, to minimize the cost to the taxpayer of the creation, collection, maintenance, use, dissemination, and disposition of information. Consistent with this goal and with principles of economy and efficiency in government, it is FTA policy to limit insofar as possible distribution of complete printed sets of environmental documents. Accordingly, unless a specific request for a complete printed set of environmental documents is received (preferably in advance of printing), Sound Transit will distribute only the executive summary of the environmental document together with a Compact Disc of the complete environmental document. A complete printed set of the environmental document will be available for review at the grantee's offices and elsewhere; an electronic copy of the complete environmental document will also be available on Sound Transit's web page.

Issued on: September 19, 2011.
Linda Gehrke,
Acting Regional Administrator, Region 10.

[FR Doc. 2011-25050 Filed 9-28-11; 8:45 am]

BILLING CODE P